DEPARTMENT OF ENERGY

Federal Energy Regulatory Commission

Combined Notice of Filings #1

Take notice that the Commission received the following electric corporate filings:

Docket Numbers: EC21-56-000.

Applicants: Duke Energy Indiana, LLC, GIC Infra Holdings Pte. Ltd.

Description: Joint Application for Authorization Under Section 203 of the Federal Power Act of Duke Energy Indiana, LLC, et al.

Filed Date: 02/25/2021.

Accession Number: 20210225-5244.

Comment Date: 5:00 p.m. ET 3/18/2021.

Docket Numbers: EC21-57-000.

Applicants: Exelon Generation Company, LLC.

Description: Application for Authorization Under Section 203 of the Federal Power Act of Exelon Generation Company, LLC.

Filed Date: 02/25/2021.

Accession Number: 20210225-5246.

Comment Date: 5:00 p.m. ET 3/18/2021.

Take notice that the Commission received the following exempt wholesale generator filings:

Docket Numbers: EG21-95-000.

Applicants: Fish Springs Ranch Solar, LLC.

Description: Notice of Self-Certification of Exempt Wholesale Generator Status of Fish Springs Ranch Solar, LLC under EG21-95.

Filed Date: 02/11/2021.

Accession Number: 20210211-5215.

Comment Date: 5:00 p.m. ET 3/4/2021.

Docket Numbers: EG21-96-000.

Applicants: Quitman II Solar, LLC.

Description: Notice of Self-Certification of Exempt Wholesale Generator Status of Quitman II Solar, LLC.

Filed Date: 02/17/2021.

Accession Number: 20210217-5153.

Comment Date: 5:00 p.m. ET 3/10/2021.

Docket Numbers: EG21-97-000.

Applicants: Iris Solar, LLC.

Description: Notice of Self-Certification of Exempt Wholesale Generator Status of Iris Solar, LLC under EG21-97.

Filed Date: 02/26/2021.

Accession Number: 20210226-5300.

Comment Date: 5:00 p.m. Eastern Time on Friday, March 19, 2021.

Docket Numbers: EG21-98-000.

Applicants: St. James Solar, LLC.

Description: Notice of Self-Certification of Exempt Wholesale Generator Status of St. James Solar, LLC under EG21-98.

Filed Date: 02/26/2021.

Accession Number: 20210226-5303.

Comment Date: 5:00 p.m. Eastern Time on Friday, March 19, 2021.

Take notice that the Commission received the following electric rate filings:

Docket Numbers: ER17-1531-005; ER10-1514-006; ER13-343-012; ER13-342-016; ER16-700-006; ER16-701-005.

Applicants: CPV Fairview, LLC, CPV Keenan II Renewable Energy Company, LLC, CPV Maryland, LLC, CPV Shore, LLC, CPV Towantic, LLC, CPV Valley, LLC.

Description: Notice of Change in Status of CPV Fairview, LLC, et al.

Filed Date: 02/24/2021.

Accession Number: 20210224-5208.

Comment Date: 5:00 p.m. ET 3/17/2021.

Docket Numbers: ER18-1639-008.

Applicants: Constellation Mystic Power, LLC.

Description: Constellation Mystic Power, LLC submits tariff filing per 35: Third Compliance Filing to be effective 6/1/2022.

Filed Date: 02/25/2021.

Accession Number: 20210225-5181.

Comment Date: 5:00 p.m. ET 3/18/2021.

Docket Numbers: ER21-783-001.

Applicants: Southwest Power Pool, Inc.

Description: Southwest Power Pool, Inc. submits tariff filing per 35.17(b): 3330R3 City of Nixa, Missouri NITSA NOA to be effective 12/1/2020.

Filed Date: 02/26/2021.

Accession Number: 20210226-5080.

Comment Date: 5:00 p.m. ET 3/19/2021.

Docket Numbers: ER21-1140-001.

Applicants: Public Service Company of Colorado.

Description: Public Service Company of Colorado submits tariff filing per 35.17(b): 2021-02-25 Western EIM Energy Imbalance Subentity Agrmt-Amnd-0.0.1 to be effective 1/20/2021.

Filed Date: 02/25/2021.

Accession Number: 20210225-5120.

Comment Date: 5:00 p.m. ET 3/18/2021.

Docket Numbers: ER21-1177-000.

Applicants: Crossett Solar Energy, LLC.

Description: Supplement to February 19, 2021 Crossett Solar Energy, LLC tariff filing.

Filed Date: 02/25/2021.

Accession Number: 20210225-5243.

Comment Date: 5:00 p.m. ET 3/18/2021.

Docket Numbers: ER21-1206-000.

Applicants: Keota Solar, LLC.

Description: Petition for Limited Waiver or Alternative Remedial Relief, Request for Expedited Consideration and Shortened Comment Period of Keota Solar, LLC.

Filed Date: 02/24/2021.

Accession Number: 20210224-5176.

Comment Date: 5:00 p.m. ET 3/17/2021.

Docket Numbers: ER21-1209-000.

Applicants: Mid-Atlantic Interstate Transmission, LLC, PJM Interconnection, L.L.C.

Description: Mid-Atlantic Interstate Transmission, LLC submits tariff filing per 35.13(a)(2)(iii: MAIT submits Seven ECSAs, Nos. 5387, 5774, 5917, 5918, 5919, 5920 and 5921 to be effective 4/27/2021.

Filed Date: 02/25/2021.

Accession Number: 20210225-5143.

Comment Date: 5:00 p.m. ET 3/18/2021.

Docket Numbers: ER21-1210-000.

Applicants: PJM Interconnection, L.L.C.

Description: PJM Interconnection, L.L.C. submits tariff filing per 35.15: Notice of Cancellation of WMPA, SA No. 5153; Queue No. AD1-157 re: withdrawal to be effective 3/27/2021.

Filed Date: 02/25/2021.

Accession Number: 20210225-5157.

Comment Date: 5:00 p.m. ET 3/18/2021.

Docket Numbers: ER21-1211-000.

Applicants: PJM Interconnection, L.L.C.

Description: PJM Interconnection, L.L.C. submits tariff filing per 35.13(a)(2)(iii: PJM submits Revisions to PJM Tariff re: Surety Bonds to be effective 5/1/2021.

Filed Date: 02/25/2021.

Accession Number: 20210225-5187.

Comment Date: 5:00 p.m. ET 3/18/2021.

Docket Numbers: ER21-1212-000.

Applicants: Pocahontas Prairie Wind, LLC.

Description: Notice of Cancellation of Market Based Rate Tariff of Pocahontas Prairie Wind, LLC.

Filed Date: 02/25/2021.

Accession Number: 20210225-5247.

Comment Date: 5:00 p.m. ET 3/18/2021.

Docket Numbers: ER21-1213-000.

Applicants: Midcontinent Independent System Operator, Inc.

Description: Midcontinent Independent System Operator, Inc. submits tariff filing per 35.13(a)(2)(iii: 2021-02-26_SA 3487 ATC-Badger State Solar 1st Rev GIA (J818) to be effective 2/17/2021.

Filed Date: 02/26/2021.

Accession Number: 20210226-5115.

Comment Date: 5:00 p.m. ET 3/19/2021.

Docket Numbers: ER21-1214-000

Applicants: Midcontinent Independent System Operator.

Description: Midcontinent Independent System Operator, Inc. submits tariff filing per 35.13(a)(2)(iii: 2021-02-26_SA 3258 Big Rivers Electric-Clover Creek Solar 1st Rev GIA (J753) to be effective 2/19/2021 under ER21-1214 Filing Type: 10.

Filed Date: 02/26/2021.

Accession Number: 20210226-5177.

Comment Date: 5:00 p.m. Eastern Time on Friday, March 19, 2021.

Docket Numbers: ER21-1215-000.

Applicants: Assembly Solar I, LLC.

Description: Assembly Solar I, LLC submits tariff filing per 35.12: Reactive Power Compensation Filing to be effective 4/27/2021 under ER21-1215 Filing Type: 400.

Filed Date: 02/26/2021.

Accession Number: 20210226-5185.

Comment Date: 5:00 p.m. Eastern Time on Friday, March 19, 2021.

Docket Numbers: ER21-1216-000.

Applicants: Midcontinent Independent System Operator.

Description: Midcontinent Independent System Operator, Inc. submits tariff filing per 35.13(a)(2)(iii: 2021-02-26_SA 3259 Big Rivers Electric-Merino Solar LLC 1st Rev GIA (J762) to be effective 2/19/2021 under ER21-1216 Filing Type: 10.

Filed Date: 02/26/2021.

Accession Number: 20210226-5197.

Comment Date: 5:00 p.m. Eastern Time on Friday, March 19, 2021.

Docket Numbers: ER21-1217-000.

Applicants: Iris Solar, LLC.

Description: Iris Solar, LLC. submits tariff filing per 35.12: Application for Market-Based Rate Authority to be effective 4/15/2021 under ER21-1217 Filing Type: 400.

Filed Date: 02/26/2021.

Accession Number: 20210226-5220.

Comment Date: 5:00 p.m. Eastern Time on Friday, March 19, 2021.

Docket Numbers: ER21-1218-000.

Applicants: St. James Solar, LLC.

Description: St. James Solar, LLC submits tariff filing per 35.12: Application for Market-Based Rate Authority to be effective 4/15/2021 under ER21-1218 Filing Type: 400.

Filed Date: 02/26/2021.

Accession Number: 20210226-5226.

Comment Date: 5:00 p.m. Eastern Time on Friday, March 19, 2021.

Docket Numbers: ER21-1219-000.

Applicants: Pacific Gas and Electric Company.

Description: Pacific Gas and Electric Company submits tariff filing per 35.13(a)(2)(iii: Revisions to Formula Rate: CGI Depreciation Rates to be effective 4/28/2021 under ER21-1219 Filing Type: 10.

Filed Date: 02/26/2021.

Accession Number: 20210226-5235.

Comment Date: 5:00 p.m. Eastern Time on Friday, March 19, 2021.

Docket Numbers: ER21-1220-000.

Applicants: New York Independent System Operator, In, Niagara Mohawk Power Corporation.

Description: New York Independent System Operator, Inc. submits tariff filing per 35.13(a)(2)(iii: Joint TPIA 2472 among the NYISO, NMPC and HQUS re: Cedar Rapids Intertie to be effective 2/11/2021 under ER21-1220 Filing Type: 10.

Filed Date: 02/26/2021.

Accession Number: 20210226-5249.

Comment Date: 5:00 p.m. Eastern Time on Friday, March 19, 2021.

Docket Numbers: ER21-1221-000.

Applicants: New York Independent System Operator, In.

Description: New York Independent System Operator, Inc. submits tariff filing per 35.13(a)(2)(iii: EPC agreement 2476 among NYISO, HQ and APGI re: Cedar Rapids Intertie to be effective 2/11/2021 under ER21-1221 Filing Type: 10.

Filed Date: 02/26/2021.

Accession Number: 20210226-5279.

Comment Date: 5:00 p.m. Eastern Time on Friday, March 19, 2021.

Docket Numbers: ER21-1222-000.

Applicants: PJM Interconnection, L.L.C.

Description: PJM Interconnection, L.L.C. submits tariff filing per 35.13(a)(2)(iii: First Revised ISA, Service Agreement No. 4225; Queue No. AF2-103 to be effective 1/28/2021 under ER21-1222 Filing Type: 10.

Filed Date: 02/26/2021.

Accession Number: 20210226-5287.

Comment Date: 5:00 p.m. Eastern Time on Friday, March 19, 2021.

Docket Numbers: ER21-1223-000.

Applicants: Tucson Electric Power Company.

Description: Tucson Electric Power Company submits tariff filing per 35: Order No. 864 Compliance Filing to be effective 1/27/2020 under ER21-1223 Filing Type: 80.

Filed Date: 02/26/2021.

Accession Number: 20210226-5308.

Comment Date: 5:00 p.m. Eastern Time on Friday, March 19, 2021.

Docket Numbers: ER21-1224-000.

Applicants: Cleveland Cliffs Electric Supply LLC.

Description: Cleveland Cliffs Electric Supply LLC submits tariff filing per 35.13(a)(2)(iii: Notice of Succession filing to be effective 3/1/2021 under ER21-1224 Filing Type: 30.

Filed Date: 02/26/2021.

Accession Number: 20210226-5310.

Comment Date: 5:00 p.m. Eastern Time on Friday, March 19, 2021.

Take notice that the Commission received the following electric reliability filings:

Docket Numbers: RR21-2-000.

Applicants: North American Electric Reliability Corporation.

Description: Petition of the North American Electric Reliability Corporation for approval of amendments to the SERC Reliability Corporation Regional Reliability Standards Development Procedure.

Filed Date: 02/25/2021.

Accession Number: 20210225-5256.

Comment Date: 5:00 p.m. ET 3/18/2021.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 26, 2021.
Nathaniel J. Davis, Sr.,
Deputy Secretary.

[FR Doc. 2021-04577 Filed 3-4-21; 8:45 am]

BILLING CODE 6717-01-P